NATIONAL ARCHIVES AND RECORDS ADMINISTRATION

Advisory Committee on the Records of Congress; Meeting

AGENCY: National Archives and Records Administration.

ACTION: Notice of meeting.

SUMMARY: In accordance with the Federal Advisory Committee Act, the National Archives and Records Administration (NARA) announces a meeting of the Advisory Committee on the Records of Congress. The committee advises NARA on the full range of programs, policies, and plans for the Center for Legislative Archives in the Office of Records Services.

DATES: June 7, 2004 from 10 a.m. to 11 a.m.

ADDRESSES: The U.S. Capitol Building, Room S-219, Washington, DC.

FOR FURTHER INFORMATION CONTACT: Richard H. Hunt, Director; Center for Legislative Archives; (202) 501-5350.

SUPPLEMENTARY INFORMATION:

Agenda

Capitol Visitor Center Orientation Film;

Electronic Records Archives;

Senate Legislative Information Project;

Pilot of Document Management System for Senate Offices and the Ohio Congressional Archives;

Activities report of the Center for Legislative Archives; and

Other current issues and new business.

The meeting is open to the public.

Dated: May 21, 2004.
Mary Ann Hadyka,
Committee Management Officer.

[FR Doc. 04-11956 Filed 5-26-04; 8:45 am]

BILLING CODE 7515-01-P